DEPARTMENT OF THE INTERIOR

Bureau of Land Management

[OR-958-1430-ET; GPO-02-0201; WAOR-19631 et al.]

Public Land Order No. 7536; Revocation of Executive Order Dated February 1, 1921, and Secretarial Orders Dated June 7, 1922, and May 22, 1924; Washington

AGENCY: Bureau of Land Management, Interior.

ACTION: Public land order.

SUMMARY: This order revokes in their entirety, an Executive Order and two Secretarial Orders as they affect 1,136.16 acres of National Forest System lands withdrawn for Power Site Reserve No. 755 and Power Site Classification Nos. 40 and 70. The lands are no longer needed for the purpose for which they were withdrawn. The lands described in paragraph 1(a) have been and will remain open to mining and mineral leasing, subject to other segregations of record. This action will open these lands to such forms of disposition as may by law be made of National Forest System lands. The remaining lands have been conveyed out of Federal ownership.

EFFECTIVE DATE: September 5, 2002.

FOR FURTHER INFORMATION CONTACT: Allison O'Brien, BLM Oregon/ Washington State Office, P.O. Box 2965, Portland, Oregon 97208-2965, 503-808-6171.

Order

By virtue of the authority vested in the Secretary of the Interior by Section 204 of the Federal Land Policy and Management Act of 1976, 43 U.S.C. 1714 (1994), it is ordered as follows:

1. The Executive Order dated February 1, 1921, and the two Secretarial Orders dated June 7, 1922, and May 22, 1924, which withdrew National Forest System lands for power site purposes, are hereby revoked as they affect the following described lands:

Willamette Meridian

(a) T. 26 N., R. 19 E.,

Sec. 1, lots 7, 8, 9, 10, 16, and 17;

Sec. 2, lots 2 and 5 and SE¼NE¼;

Sec. 12, lots 1, 2, and 3.

T. 27 N., R. 19 E.,

Sec. 3, lots 7 to 12, inclusive;

Sec. 10, lots 1 to 4, inclusive;

Sec. 11, lots 6 and 7;

Sec. 15, lot 1;

Sec. 22, lots 4, 5, and 6;

Sec. 26, lots 4, 9, 12, 16, 17, and 18;

Sec. 35, lots 1 and 2.

T. 28 N., R. 19 E.,

Sec. 33, lots 3 and 4;

Sec. 34, lots 1 and 3, and NE¼SW¼.

T. 25 N., R. 20 E.,

Sec. 4, lot 6.

T. 26 N., R. 20 E.,

Sec. 6, lot 10.

The areas described aggregate 854.23 acres in Chelan County.

(b) T. 27 N., R. 19 E.,

Homestead Entry Survey No. 270.

T. 28 N., R. 19 E.,

Sec. 33, NE¼SE¼;

Sec. 34, lots 4 and 5, and NW¼SW¼.

T. 25 N., R. 20 E.,

Sec. 4, lot 5;

Sec. 10, NE¼NE¼.

The areas described aggregate 281.93 acres in Chelan County.

2. At 8:30 a.m. on September 5, 2002, subject to valid and existing rights, other segregations of record, and the requirements of applicable law, the lands described in paragraph 1(a) will be opened to such forms of disposal that may by law be made of National Forest System lands.

SUPPLEMENTARY INFORMATION: The lands described in paragraph 1(b) have been conveyed out of Federal ownership.

Dated: August 9, 2002.
Rebecca W. Watson,
Assistant Secretary—Land and Minerals Management.

[FR Doc. 02-22588 Filed 9-4-02; 8:45 am]

BILLING CODE 4310-33-P